DEPARTMENT OF THE INTERIOR

Bureau of Indian Affairs

[245A2100DD/AAKC001030/A0A501010.999900]

Notice of Intent To Prepare an Environmental Impact Statement for the Koi Nation's Proposed Shiloh Resort and Casino Project, Sonoma County, California

AGENCY: Bureau of Indian Affairs, Interior.

ACTION: Notice.

SUMMARY: This notice advises the public that the Bureau of Indian Affairs (BIA), as lead agency, intends to gather information necessary for preparing an Environmental Impact Statement (EIS) pursuant to the National Environmental Policy Act (NEPA) in connection with the Koi Nation's (Nation) proposed Shiloh Resort and Casino Project adjacent to the Town of Windsor, Sonoma County, California for gaming and other purposes. Although a formal public scoping process has been conducted and an Environmental Assessment (EA) circulated for this proposed Federal action, this notice also invites the public to identify potential issues, concerns, and alternatives to be considered in the EIS which have not previously been raised during this NEPA process.

DATES: To ensure consideration during the development of the EIS, written comments on the scope of the EIS should be sent as soon as possible and no later than 30 days after publication of this Notice of Intent (NOI) in the Federal Register.

ADDRESSES: You may mail written comments to Amy Dutschke, Regional Director, Bureau of Indian Affairs, Pacific Region, 2800 Cottage Way, Sacramento, California 95825. Please include your name, return address, and “NOI Comments, Koi Nation Fee-to-Trust and Casino Project” on the first page of your written comments. You may also submit comments through email to Chad Broussard, Environmental Protection Specialist, Bureau of Indian Affairs, at chad.broussard@bia.gov, using “NOI Comments, Koi Nation Fee-to-Trust and Casino Project” as the subject of your email.

FOR FURTHER INFORMATION CONTACT: Chad Broussard, Environmental Protection Specialist, Bureau of Indian Affairs, Pacific Regional Office, 2800 Cottage Way, Room W—2820, Sacramento, California 95825; telephone: (916) 978-6000; email: chad.broussard@bia.gov.

SUPPLEMENTARY INFORMATION: The Koi Nation submitted a Fee-to-Trust application to the Bureau of Indian Affairs (BIA) requesting the placement of approximately 68.60 acres of fee land in trust by the United States as restored lands pursuant to 25 CFR part 292 upon which the Koi Nation would construct a casino resort. The Nation proposes to develop a casino-resort with ballroom/meeting space, event center, spa, and associated infrastructure. The proposed Fee-to-Trust property is located adjacent to the Town of Windsor, Sonoma County, California. The proposed trust property is assessor's parcels number 059-300-003. The purpose of the proposed action is to facilitate tribal self-sufficiency, self-determination, and economic development. The proposed action encompasses the various federal approvals that may be required to implement the Koi Nation's proposed project, including approval of the Koi Nation's land Fee-to-Trust application and Secretarial Determination pursuant to section 20 (b)(1)(B) of the Indian Gaming Regulatory Act (25 U.S.C. 2719 (b)(1)(B)(iii)).

The BIA previously prepared an EA that analyzed the potential environmental effects of the proposed action. The EA was made available for public comments and was the subject of a public meeting. Upon consideration of the public and agency comments received, the BIA has decided to prepare an EIS to further analyze the environmental effects which may result from the proposed action.

The EIS will identify and evaluate issues related to these approvals and will also evaluate a range of reasonable alternatives. Possible alternatives currently under consideration include: (1) a reduced-intensity casino alternative, (2) an alternate-use (non-gaming) alternative, and (3) a no-action alternative. The range of alternatives evaluated in the EIS may be expanded based on comments received during the scoping process. Areas of environmental concern preliminarily identified for analysis in the EIS include land resources; water resources; air quality; noise; biological resources; cultural and paleontological resources; transportation and circulation; land use; hazardous materials and hazards; public services and utilities; socioeconomics; environmental justice; visual resources; and cumulative, indirect, and growth-inducing effects.

The range of issues to be addressed in the EIS may be expanded or reduced based on comments received in response to this notice and in response to the previous publication of the EA. Additional information, including a map of the proposed trust property, is available at https://shilohresortenvironmental.com or by contacting the person listed in the FOR FURTHER INFORMATION CONTACT section of this notice.

Public Comment Availability: Comments, including names and addresses of respondents, will be included as part of the administrative record. Before including your address, telephone number, email address, or other personal identifying information in your comment, you should be aware that your entire comment—including your personal identifying information—may be made publicly available at any time. While you can ask in your comment that your personal identifying information be withheld from public review, the BIA cannot guarantee that this will occur.

Authority: This notice is published pursuant to section 1503.1 of the Council of Environmental Quality Regulations (40 CFR parts 1500 through 1508) and section 46.305 of the Department of the Interior Regulations (43 CFR part 46), implementing the procedural requirements of the NEPA of 1969, as amended (42 U.S.C. 4371, et seq.), and in accordance with the exercise of authority delegated to the Assistant Secretary—Indian Affairs by 209 DM 8. This notice is also published in accordance with 40 CFR 93.155, which provides reporting requirements for conformity determinations.

Wizipan Garriott,
Principal Deputy Assistant Secretary—Indian Affairs, Exercising by Delegation the Authority of the Assistant Secretary—Indian Affairs.

[FR Doc. 2024-04937 Filed 3-7-24; 8:45 am]

BILLING CODE 4337-15-P